SOCIAL SECURITY ADMINISTRATION

Agency Information Collection Activities: Proposed Request and Comment Request

The Social Security Administration (SSA) publishes a list of information collection packages that will require clearance by the Office of Management and Budget (OMB) in compliance with Pub.L. 104-13 effective October 1, 1995, The Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Office Building, Room 10235, 725 17th St., NW., Washington, D.C. 20503, Fax: 202-395-6974.

(SSA), Social Security Administration, DCFAM, Attn: Reports Clearance Officer, 1338 Annex Bldg., 6401 Security Blvd., Baltimore, MD 21235, Fax: 410-965-6400.

I

The information collections listed below will be submitted to OMB within 60 days from the date of this notice. Therefore, comments and recommendations regarding the information collections would be most useful if received by the Agency within 60 days from the date of this publication. You can obtain a copy of the collection instruments by calling the SSA Reports Clearance Officer at (410) 965-0454, or by writing to the address listed above.

1. Application for Supplemental Security Income-20 CFR, Subpart C, 416.305-.335-0960-0229

The information collected using Form SSA-8000-BK is needed and used to determine eligibility for Supplemental Security Income (SSI) and the amount of benefits payable. The respondents are applicants for SSI payments.

Type of Request: Revision of an OMB-approved information collection, Number of Respondents: 1,249,933, Frequency of Response: 1, Average Burden Per Response: 40 minutes, Estimated Annual Burden: 833,289 hours.

2. Application for Wife's or Husband's Insurance Benefits—20 CFR, Subpart D, 404.330-.333; Subpart G, 404.603-0960-0008

SSA needs and uses the information collected on Form SSA-2-F6 to determine if an applicant (including a divorced applicant) can be entitled to benefits as the spouse of the worker and the amount of the spouse's benefits. The respondents are applicants for wife's or husband's benefits, including those who are divorced.

Type of Request: Extension of an OMB-approved information collection, Number of Respondents: 700,000, Frequency of Response: 1, Average Burden Per Response: 15 minutes, Estimated Annual Burden: 175,000 hours.

3. Supplemental Security Income Claim Information Notice—20 CFR, Subpart B, 416.210-0960-0324

Form SSA-L8050 is used by SSA to ensure that all sources of potential income, which can be used to provide for the support and maintenance of an individual receiving SSI, are utilized. SSI is intended to supplement other income available to an individual. The respondents are applicants/recipients of SSI who may be eligible for benefits from public or private programs.

Type of Request: Extension of an OMB-approved information collection, Number of Respondents: 7,500, Frequency of Response: 1, Average Burden Per Response: 10 minutes, Estimated Annual Burden: 1,250 hours.

4. Reporting Changes that Affect Your Social Security Payment —20 CFR 404, Subpart D and Subpart E-0960-0073

SSA uses the information collected on Form SSA-1425 to determine continuing entitlement to title II Social Security benefits and to determine the proper benefit amount. The respondents are Social Security beneficiaries who need to report an event that could affect payments.

Type of Request: Extension of an OMB-approved information collection, Number of Respondents: 70,000, Frequency of Response: 1, Average Burden Per Response: 5 minutes, Estimated Annual Burden: 5,833.

5. Medicaid Use Report, 20 CFR 416.268—0960-0267

The information required by this regulation is used by SSA to determine if an individual is entitled to special SSI payments. The respondents are SSI recipients whose payments were stopped based on earnings from work.

Type of Request: Extension of an OMB-approved information collection, Number of Respondents: 60,000, Frequency of Response: 1, Average Burden Per Response: 3 minutes, Estimated Annual Burden: 3,000 hours.

6. Quickstart Enrollment—31 CFR 209 and 210—0960-0564

The information collected is needed by SSA to facilitate electronic transmission of data for direct deposit of funds to a payee's account. The respondents are Social Security beneficiaries and SSI recipients requesting direct deposit to their financial institutions.

Type of Request: Extension of an OMB-approved information collection, Number of Respondents: 3,950,000, Frequency of Response: 1, Average Burden Per Response: 3 minutes, Estimated Annual Burden: 197,500 hours.

7. Request for Internet Services Representative Payee, 20 CFR 401.45 Report—0960-NEW

Background

SSA is developing an Internet Representative Payee Report form (I623) to electronically report on the use of benefit payments made on behalf of Social Security beneficiaries and SSI recipients. As part of this process, SSA will conduct a proof of concept (POC) test that will be limited to 40 organizational representative payees. During the projected 6-month POC test, participating organizations will use the I623 to complete and file the representative payee report instead of using the paper SSA-623.

The Collection

Organizations participating in the POC will designate up to three employees that will be authenticated using SSA's existing Integrated Registration for Employers and Submitters (IRES) OMB control number 0960-0626. Once authenticated, the employee will be required to enter a Personal Identification Number (PIN) and Password to gain access to the online I623 application. The PIN and Password will serve as the electronic signature. SSA will use the information collected through the I623 to determine whether the payments provided to the representative payee have been used for the beneficiary's current maintenance and personal needs and whether the representative payee continues to be concerned with the beneficiary's welfare. The respondents are organizational representative payees designated to receive funds on behalf of Social Security beneficiaries and/or SSI recipients.

Type of request: New information collection, Number of Respondents: 40 organizations, Frequency of Response: 117.5 per respondent, Average Burden Per Response: 15 minutes, Estimated Annual Burden: 1,175 hours.

8. Letter to Employer Requesting Information about Wages Earned by a Beneficiary—20 CFR, Subpart I, 404.801—0960-0034

SSA uses the data collected on form SSA-L725 to establish the exact amount of wages earned by a beneficiary in situations where the information in SSA records is incomplete or has been questioned. The respondents are employers of wage earners whose earnings records are incomplete or have been questioned.

Type of Request: Extension of an OMB-approved information collection, Number of Respondents: 150,000, Frequency of Response: 1, Average Burden Per Response: 40 minutes, Estimated Annual Burden: 100,000 hours.

II

The information collection listed below has been submitted to OMB for clearance. Your comments on the information collections would be most useful if received by OMB and SSA within 30 days from the date of this publication. You can obtain a copy of the OMB clearance package by calling the SSA Reports Clearance Officer at 410-965-0454 or by writing to the address listed above.

Application for Parent's Insurance Benefits—20 CFR 404.370-.374 and 404.601-603—0960-0012

The information collected on form SSA-7 is used by SSA to determine entitlement of an individual to parent's Social Security title II benefits. The respondents are parents who were dependent on the worker for at least one-half of their support.

Type of Request: Revision of an OMB-approved information collection, Number of Respondents: 1,400, Frequency of Response: 1, Average Burden Per Response: 15 minutes, Estimated Annual Burden: 350 hours.

Dated: October 10, 2002.
Elizabeth A. Davidson,
Reports Clearance Officer, Social Security Administration.

[FR Doc. 02-26392 Filed 10-16-02; 8:45 am]

BILLING CODE 4191-02-P